DEPARTMENT OF LABOR

Employment and Training Administration

INVESTIGATIONS REGARDING CERTIFICATIONS OF ELIGIBILITY TO APPLY FOR WORKER ADJUSTMENT ASSISTANCE

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 8, 2004.

Interested persons are invited to submit written comments regarding the subject matter of the investigations to the Director, Division of Trade Adjustment Assistance at the address shown below, not later than March 8, 2004.

The petitions filed in this case are available for inspection at the Office of the Director, Division of Trade Adjustment Assistance, Employment and Training Administration, U.S. Department of Labor, Room C-5311, 200 Constitution Avenue, NW., Washington, DC. 20210.

Signed at Washington, DC. this 17th day of February 2004.
Timothy Suillivan,
Director, Division of Trade Adjustment Assistance.

Appendix.—Petitions Instituted Between 01/20/2004 and 01/30/2004
TA-W | Subject firm (petitioners) | Location | Date of institution | Date of petition
54,036 | PolyOne, Inc. (NJ) | Burlington, NJ | 01/20/2004 | 01/13/2004
54,037 | Micro Med Machining (Wkrs) | Miramar, FL | 01/20/2004 | 01/12/2004
54,038 | Network Associates (Wkrs) | Oakbrook, Terr., IL | 01/20/2004 | 01/15/2004
54,039 | Ehlert Tool Company (WI) | New Berlin, WI | 01/20/2004 | 01/16/2004
54,040 | Wohlert Special Products, Inc. (MI) | Sault Ste Marie, MI | 01/20/2004 | 01/14/2004
54,041A | Epson America, Inc. (Wrks) | Carson, CA | 01/20/2004 | 01/12/2004
54,041 | Epson America, Inc. (Wkrs) | Long Beach, CA | 01/20/2004 | 01/12/2004
54,042 | R. Sabee Co., LLC (Wkrs) | Appleton, WI | 01/20/2004 | 01/16/2004
54,043 | Ramseur Interlock Knitting (Comp) | Ramseur, NC | 01/20/2004 | 01/15/2004
54,044 | Temple Inland Forest Products Corp. (Comp) | Shippenville, PA | 01/20/2004 | 01/08/2004
54,045 | United States Steel Corp. (Wkrs) | Gary, IN | 01/20/2004 | 01/16/2004
54,046 | Best Manufacturing Group LLC (Comp) | Estill, SC | 01/20/2004 | 01/15/2004
54,047 | Siemens Energy and Automation (Comp) | Springhouse, PA | 01/20/2004 | 01/19/2004
54,048 | West Point Stevens (Comp) | LaGrange, GA | 01/20/2004 | 01/15/2004
54,049 | Ingersoll-Rand/Blaw-Knox (UAW) | Mattoon, IL | 01/20/2004 | 01/15/2004
54,050 | A.O. Smith (Comp) | LaVergne, TN | 01/21/2004 | 01/19/2004
54,051 | Ferriot, Inc. (USWA) | Akron, OH | 01/21/2004 | 01/20/2004
54,052 | Ellis Hosiery Mills, Inc. (Comp) | Hickory, NC | 01/21/2004 | 01/20/2004
54,053 | Quality Fabricating, Inc. (Wkrs) | N. Huntingdon, PA | 01/21/2004 | 01/12/2004
54,054 | Lincoln County Manufacturing (Comp) | Fayetteville, TN | 01/21/2004 | 01/14/2004
54,055 | Entek International (Wkrs) | Lebanon, OR | 01/21/2004 | 01/16/2004
54,056 | Stanley Services (Wkrs) | Smithfield, NC | 01/22/2004 | 01/23/2004
54,057 | Agilent Technologies (Wkrs) | Englewood, CO | 01/22/2004 | 01/15/2004
54,058 | Winalta, Inc. (Wkrs) | Linton, IN | 01/22/2004 | 01/14/2004
54,059 | Nortel Networks (Comp) | Santa Clara, CA | 01/22/2004 | 01/21/2004
54,060 | MI Home Products (Wkrs) | Elizabeth, PA | 01/22/2004 | 01/02/2004
54,061 | Eastern Pulp and Paper (PACE) | Lincoln, ME | 01/22/2004 | 01/20/2004
54,062 | Whitener Hosiery and Finishing Co., Inc. (Comp) | Hickory, NC | 01/22/2004 | 01/21/2004
54,063 | Texas Instruments, Inc. (Comp) | Attleboro, MA | 01/22/2004 | 01/16/2004
54,064 | RMG Foundry (Comp) | Mishawaka, IN | 01/22/2004 | 01/19/2004
54,065 | Bremner, Inc. (Wkrs) | Ripon, WI | 01/22/2004 | 01/21/2004
54,066 | Auburn Foundry (Comp) | Auburn, IN | 01/23/2004 | 01/14/2004
54,067 | Eaton Corporation (UAW) | Marshall, MI | 01/23/2004 | 01/20/2004
54,068 | American Lock Company (Comp) | Crete, IL | 01/23/2004 | 01/22/2004
54,069 | Phelps Dodge Industries (Comp) | El Paso, TX | 01/23/2004 | 01/21/2004
54,070 | Magruder Color Co., Inc. (Comp) | Bridgeview, IL | 01/23/2004 | 01/22/2004
54,071 | BGE, Ltd. (Comp) | Niles, IL | 01/23/2004 | 01/16/2004
54,072 | Singer Hosiery Mills, Inc. (Comp) | Thomasville, NC | 01/23/2004 | 01/22/2004
54,073 | Crews Mfg./Uptex K.C. Holdings (Wkrs) | The Rock, GA | 01/23/2004 | 01/20/2004
54,074 | Earthlink (Wkrs) | Harrisburg, PA | 01/26/2004 | 01/21/2004
54,075 | Unilever Home & Personal Care (Wkrs) | Cartersville, GA | 01/26/2004 | 01/15/2004
54,076 | Oxford Drapery Inc. (Comp) | Timmonsville, SC | 01/26/2004 | 01/12/2004
54,077 | Twin City Leather Co., Inc. (Union) | Gloversville, NY | 01/26/2004 | 01/12/2004
54,078 | Sappi Fine Paper (Wkrs) | Cloquet, MN | 01/26/2004 | 01/12/2004
54,079 | Kaddis Mfg. Corp.(Wkrs) | Parsons, TN | 01/26/2004 | 01/15/2004
54,080 | Accenture LLP (Wkrs) | Oaks, PA | 01/26/2004 | 01/13/2004
54,081 | The Toro Company (Comp) | Oxford, MS | 01/26/2004 | 01/12/2004
54,082 | Foundatin Construction Co., Inc. (Comp) | Jackson, MS | 01/26/2004 | 01/12/2004
54,083 | Facemate Corp. (Wkrs) | Greenwood, SC | 01/26/2004 | 01/14/2004
54,084 | Ropak Atlantic Inc. (Comp) | Dayton, NJ | 01/26/2004 | 01/16/2004
54,085 | Franklin Industries (Wkrs) | Franklin, PA | 01/27/2004 | 01/15/2004
54,086 | Loislaw, Inc. (Wkrs) | Van Buren, AR | 01/27/2004 | 01/13/2004
54,087 | Honeywell—System Sensor (Wkrs) | El Paso, TX | 01/27/2004 | 01/13/2004
54,088 | Parsons Diamond Products, Inc. (Comp) | W. Hartford, CT | 01/27/2004 | 01/12/2004
54,089 | Sun Microsystems (Wkrs) | San Jose, CA | 01/27/2004 | 01/14/2004
54,090 | Plaid Clothing (Union) | Erlanger, KY | 01/28/2004 | 01/27/2004
54,091 | Luzenac America, Inc. (Comp) | Windsor, VT | 01/28/2004 | 01/26/2004
54,092 | Gerber Plumbing Fixtures LLC (Union) | Gadsden, AL | 01/28/2004 | 01/22/2004
54,093 | Valenite (Comp) | Gainesville, TX | 01/28/2004 | 01/20/2004
54,094 | Solvay Solexis (Wkrs) | Orange, TX | 01/28/2004 | 01/22/2004
54,095 | Kerr McGee Chemical (State) | Henderson, NV | 01/28/2004 | 01/12/2004
54,096 | Aelco Foundry (Wkrs) | Milwaukee, WI | 01/29/2004 | 01/28/2004
54,097 | JII Promotions (PACE) | Coshocton, OH | 01/29/2004 | 01/13/2004
54,098 | Cibola (Wkrs) | Hickory, NC | 01/29/2004 | 01/22/2004
54,099 | FCI USA, Inc. (Comp) | Emigsville, PA | 01/29/2004 | 01/27/2004
54,100 | Federal Mogul (MI) | Grand Haven, MI | 01/29/2004 | 01/23/2004
54,101 | M.F. Maghee Log Homes (Comp) | Yamhill, OR | 01/29/2004 | 01/10/2004
54,102 | Lucent Technologies (Wkrs) | Lisle, IL | 01/29/2004 | 01/14/2004
54,103 | Kulicke and Soffa Industries, Inc. (Wkrs) | Willow Grove, PA | 01/29/2004 | 01/23/2004
54,104 | Samuel Lawrence Furniture (UBC) | Phoenix, AZ | 01/29/2004 | 01/15/2004
54,105 | Creative Pultrusion (Comp) | Roswell, NM | 01/29/2004 | 01/14/2004
54,106 | Susan Mills, Inc. (Comp) | Hillside, NJ | 01/29/2004 | 01/20/2004
54,107 | Manpower, Inc. (Comp) | Roswell, NM | 01/29/2004 | 01/15/2004
54,108 | S.A.S.I. Corp d/b/a Bridal Originals (Comp) | Sparta, IL | 01/29/2004 | 01/08/2004
54,109 | Lakeshore Diversified Products (MI) | Spring Lake, MI | 01/29/2004 | 01/23/2004
54,110 | Atlantic Metals Corp. (Comp) | Philadelphia, PA | 01/29/2004 | 01/23/2004
54,111 | PCD Camcar Textron (Wkrs) | Rockford, IL | 01/29/2004 | 01/23/2004
54,112 | Allvac—A Division of ATI, Inc. (Wkrs) | Monroe, NC | 01/29/2004 | 01/23/2004
54,113 | Dormer Tools (Comp) | Asheville, NC | 01/29/2004 | 01/16/2004
54,114 | Boeing Commercial Aircraft (IAM) | Chicago, IL | 01/29/2004 | 01/21/2004
54,115 | California Amplifier (Wkrs) | Oxnard, CA | 01/30/2004 | 01/27/2004
54,116 | Remington Products Co. (Comp) | Bridgeport, CT | 01/30/2004 | 01/14/2004
54,117 | Milliken Plant (Wkrs) | Saluda, SC | 01/30/2004 | 01/28/2004
54,118 | Regal Plastics Co. (UAW) | Owosso, MI | 01/30/2004 | 01/16/2004
54,119 | Micro Warehouse, Inc. (Wkrs) | Lakewood, NJ | 01/30/2004 | 01/21/2004
54,120 | Packard-Hughes Interconnect d/b/a Delphi (Wkrs) | Foley, AL | 01/30/2004 | 01/28/2004
54,121 | Coach (Wkrs) | Carlstadt, NJ | 01/30/2004 | 01/22/2004
54,122 | Magnetika, Inc. (Comp) | Lakewood, NJ | 01/30/2004 | 01/16/2004
54,123 | Bard Endoscopic Technologies (Comp) | Mentor, OH | 01/30/2004 | 01/27/2004
54,124 | J.A. DeDouch Co. (Wkrs) | Oak Park, IL | 01/30/2004 | 01/28/2004
54,125 | GHH Rand (Comp) | Davidson, NC | 01/30/2004 | 01/28/2004
54,126 | American Fast Print Ltd (Comp) | Greenville, SC | 01/30/2004 | 01/28/2004
54,127 | Mid Atlantic of West Virginia, Inc. (Comp) | Ellenboro, WV | 01/30/2004 | 01/26/2004
54,128 | Precision Disc (UAW) | Knoxville, TN | 01/30/2004 | 01/27/2004

[FR Doc. 04-4092 Filed 2-24-04; 8:45 am]

BILLING CODE 4510-30-M